DEPARTMENT OF COMMERCE

International Trade Administration

[A-583-850]

Certain Oil Country Tubular Goods From Taiwan: Rescission of Antidumping Duty Administrative Review in Part; 2014-2015

AGENCY: Enforcement and Compliance, International Trade Administration, Department of Commerce.

ACTION: Notice.

SUMMARY: The Department of Commerce (the Department) is rescinding its administrative review in part on certain oil country tubular goods from Taiwan for the period of review (POR) July 18, 2014, through August 31, 2015.

DATES: Effective Date: November 30, 2015.

FOR FURTHER INFORMATION CONTACT: Yang Jin Chun, AD/CVD Operations Office I, Enforcement and Compliance, International Trade Administration, U.S. Department of Commerce, 14th Street and Constitution Avenue NW., Washington, DC 20230; telephone: (202) 482-5760.

SUPPLEMENTARY INFORMATION:

Background

On September 1, 2015, we published a notice of opportunity to request an administrative review of the antidumping duty order on certain oil country tubular goods from Taiwan for the POR July 18, 2014, through August 31, 2015.¹ On November 9, 2015, in response to timely requests from the petitioners ² and Taiwanese exporters of subject merchandise, Shin Yang Steel Co., Ltd. (Shin Yang) and Tension Steel Industries Co., Ltd. (Tension Steel), and in accordance with section 751(a) of the Tariff Act of 1930, as amended, and 19 CFR 351.221(c)(1)(i), we initiated an administrative review of the antidumping duty order on certain oil country tubular goods from Taiwan with respect to two companies: Shin Yang and Tension Steel.³

¹ See Antidumping or Countervailing Duty Order, Finding, or Suspended Investigation; Opportunity To Request Administrative Review, 80 FR 52741 (September 1, 2015).

² Maverick Tube Corporation; Energex Tube, a division of JMC Steel Group; TMK IPSCO; Vallourec Star LP; Welded Tube USA Inc.; and United States Steel Corporation (collectively, the petitioners).

³ See Initiation of Antidumping and Countervailing Duty Administrative Reviews, 80 FR 69193 (November 9, 2015).

On November 10, 2015, Shin Yang withdrew its request for an administrative review.⁴

⁴ See letter from Shin Yang to the Department, “Oil country Tubular Goods from Taiwan: Withdrawal of Administrative Review Request” (November 10, 2015). Shin Yang's November 10, 2015 letter referenced the countervailing duty proceeding. Accordingly, we confirmed with counsel for Shin Yang that its reference to the countervailing duty proceeding was inadvertent, and that its withdrawal request intended to reference the antidumping duty proceeding. See memorandum to the File dated November 19, 2015.

Rescission of Administrative Review in Part

Pursuant to 19 CFR 351.213(d)(1), the Department will rescind an administrative review, “in whole or in part, if a party that requested a review withdraws the request within 90 days of the date of publication of notice of initiation of the requested review.” Because Shin Yang withdrew its review request in a timely manner, and because no other party requested a review of this company, we are partially rescinding the administrative review with respect to Shin Yang.

Assessment

The Department will instruct U.S. Customs and Border Protection (CBP) to assess antidumping duties on all appropriate entries. For Shin Yang, for which the review is rescinded, antidumping duties shall be assessed at rates equal to the cash deposit of estimated antidumping duties required at the time of entry, or withdrawal from warehouse, for consumption, in accordance with 19 CFR 351.212(c)(1)(i). The Department intends to issue appropriate assessment instructions to CBP within 15 days after publication of this notice.

Notifications

This notice serves as a final reminder to importers of their responsibility under 19 CFR 351.402(f)(2) to file a certificate regarding the reimbursement of antidumping duties prior to liquidation of the relevant entries during this review period. Failure to comply with this requirement may result in the Department's presumption that reimbursement of antidumping duties occurred and the subsequent assessment of doubled antidumping duties.

Notification Regarding Administrative Protective Orders

This notice also serves as a reminder to parties subject to administrative protective order (APO) of their responsibility concerning the disposition of proprietary information disclosed under APO, in accordance with 19 CFR 351.305(a)(3). Timely written notification of the return or destruction of APO materials or conversion to judicial protective order is hereby requested. Failure to comply with the regulations and the terms of an APO is a sanctionable violation.

This notice is issued and published in accordance with sections 751(a)(1) and 777(i)(1) of the Tariff Act of 1930, as amended, and 19 CFR 351.213(d)(4).

Dated: November 24, 2015.
Christian Marsh,
Deputy Assistant Secretary for Antidumping and Countervailing Duty Operations.

[FR Doc. 2015-30342 Filed 11-27-15; 8:45 am]

BILLING CODE 3510-DS-P